DEPARTMENT OF LABOR

Employment and Training Administration

Federal-State Unemployment Compensation Program: Certifications for 2003 Under the Federal Unemployment Tax Act

Correction

In notice document 03-28404 beginning on page 64369 in the issue of Thursday, November 13, 2003, make the following corrections:

1. On page 64370, in the first column, under the heading “Certification of States to the Secretary of the Treasury Pursuant to Section 3304(c) of the Internal Revenue Code of 1986”, directly under the entry “North Carolina”, add the entry “North Dakota”.

2. On the same page, in the same column, under the same heading, the entry “Virgin Island” should read “Virgin Islands”.

3. On the same page, in the same column, under the same heading, directly under the entry “Wisconsin”, add the entry “Wyoming”.

4. On the same page, in the second column, under the heading “Certification of State Unemployment Compensation Laws to the Secretary of the Treasury Pursuant to Section 3303(b)(1) of the Internal Revenue Code of 1986”, directly under the entry “North Carolina”, add the entry “North Dakota”.

[FR Doc. C3-28404 Filed 12-5-03; 8:45 am]

BILLING CODE 1505-01-D

DEPARTMENT OF TRANSPORTATION

Federal Aviation Administration

14 CFR Part 71

[Docket No. FAA-2003-16498; Airspace Docket No. 03-ACE-82]

Modification of Class E Airspace; Mount Pleasant, IA

Correction

In rule document 03-30014 beginning on page 67357 in the issue of Tuesday, December 2, 2003, make the following correction:

§71.1 [Corrected]

On page 67358, in the first column, in §71.1, under the heading, ACE IA E5 Mount Pleasant, IA, the second line should read “(Lat. 40°56′48″N., long. 91°30′40″W.)”.

[FR Doc. C3-30014 Filed 12-5-03; 8:45 am]

BILLING CODE 1505-01-D